DEPARTMENT OF TRANSPORTATION

Federal Aviation Administration

14 CFR Part 39

[Docket No. FAA-2005-21470; Directorate Identifier 2003-NM-45-AD; Amendment 39-15302; AD 2007-25-20]

RIN 2120-AA64

Airworthiness Directives; McDonnell Douglas Model DC-10-10, DC-10-10F, DC-10-15, DC-10-30 and DC-10-30F (KC-10A and KDC-10) Airplanes; Model DC-10-40 and DC-10-40F Airplanes; and Model MD-11 and MD-11F Airplanes

AGENCY: Federal Aviation Administration (FAA), Department of Transportation (DOT).

ACTION: Final rule.

SUMMARY: The FAA is adopting a new airworthiness directive (AD) for certain McDonnell Douglas Model DC-10-10, DC-10-10F, DC-10-15, DC-10-30 and DC-10-30F (KC-10A and KDC-10) airplanes; Model DC-10-40 and DC-10-40F airplanes; and Model MD-11 and MD-11F airplanes. This AD requires, for certain airplanes, modifying the thrust reverser command wiring of the number 2 engine. For certain other airplanes, this AD requires modifying the thrust reverser system wiring from the flight compartment to engines 1, 2, and 3 thrust reversers. This AD also requires installing thrust reverser locking systems on certain airplanes. This AD results from a determination that the thrust reverser systems on these McDonnell Douglas airplanes do not adequately preclude unwanted deployment of a thrust reverser. We are issuing this AD to prevent an unwanted deployment of a thrust reverser during flight, which could result in reduced controllability of the airplane.

DATES: This AD becomes effective January 22, 2008.

The Director of the Federal Register approved the incorporation by reference of certain publications listed in the AD as of January 22, 2008.

On October 1, 2001 (66 FR 44950, August 27, 2001), the Director of the Federal Register approved the incorporation by reference of McDonnell Douglas Service Bulletin DC10-78-060, dated December 17, 1999.

On April 25, 2001 (66 FR 15785, March 21, 2001), the Director of the Federal Register approved the incorporation by reference of McDonnell Douglas Alert Service Bulletin DC10-78A057, Revision 01, dated February 18, 1999.

ADDRESSES: For Boeing and McDonnell Douglas service information identified in this AD, contact Boeing Commercial Airplanes, Long Beach Division, 3855 Lakewood Boulevard, Long Beach, California 90846, Attention: Data and Service Management, Dept. C1-L5A (D800-0024). For Rohr service information identified in this AD, contact Rohr, Inc., 850 Lagoon Drive, Chula Vista, California 91910-2098.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue SE., Washington, DC 20590.

FOR FURTHER INFORMATION CONTACT: Philip C. Kush, Aerospace Engineer, Propulsion Branch, ANM-140L, FAA, Los Angeles Aircraft Certification Office, 3960 Paramount Boulevard, Lakewood, California 90712-4137; telephone (562) 627-5263; fax (562) 627-5210.

SUPPLEMENTARY INFORMATION:

Discussion

The FAA issued a supplemental notice of proposed rulemaking (NPRM) to amend 14 CFR part 39 to include an AD that would apply to certain McDonnell Douglas Model DC-10-10, DC-10-10F, DC-10-15, DC-10-30 and DC-10-30F (KC-10A and KDC-10) airplanes; Model DC-10-40 and DC-10-40F airplanes; and Model MD-11 and MD-11F airplanes. That supplemental NPRM was published in the Federal Register on July 23, 2007 (72 FR 40090). That supplemental NPRM proposed to require, for certain airplanes, modifying the thrust reverser command wiring of the number 2 engine. For certain other airplanes, the supplemental NPRM proposed to require modifying the thrust reverser system wiring from the flight compartment to engines 1, 2, and 3 thrust reversers. The supplemental NPRM also proposed to require installing thrust reverser locking systems on certain airplanes. The supplemental NPRM also proposed to revise the original NPRM by revising, for certain airplanes, the requirements for the modification of the thrust reverser system wiring from the flight compartment to engines 1, 2, and 3 thrust reversers.

Comments

We provided the public the opportunity to participate in the development of this AD. We have considered the comment received.

Request for Notification of Service Bulletin/Rulemaking

FedEx requests that we and/or Boeing notify operators of any service bulletin or rulemaking that will cover Model MD-11 and MD-11F airplanes that are not specified in Boeing Alert Service Bulletin MD11-78A007, Revision 4, dated February 22, 2007 (which is referred to as a source of service information for doing a modification specified in the supplemental NPRM). FedEx states that it has no comments on the proposed requirements of the supplemental NPRM.

We acknowledge FedEx's request. We have been advised that when a service bulletin is released Boeing does notify the customers affected by the service bulletin. If service information is developed for other Model MD-11 and MD-11F airplanes and an unsafe condition is identified, we might consider further rulemaking. Interested persons can review the Federal Register to become aware of such rulemaking actions.

Conclusion

We have carefully reviewed the available data, including the comment received, and determined that air safety and the public interest require adopting the AD as proposed in the supplemental NPRM.

Costs of Compliance

There are about 612 airplanes of the affected designs in the worldwide fleet. This AD affects about 245 airplanes of U.S. registry. The following tables provide the estimated costs for U.S. operators to comply with this AD, for the applicable actions, at an average hourly labor rate of $80 per work hour.

Cost for Wiring Modification/Thrust Reverser Locking System Installation
Action | Work hours | Parts | Cost per airplane | Number of U.S.- registered airplanes | Fleet cost
Modify wiring (Model DC-10-10, DC-10-10F, DC-10-15, DC-10-30 and DC-10-30F (KC-10A and KDC-10) airplanes) | 34 | $1,562 | $4,282 | 40 | $171,280.
Modify wiring (Model DC-10-40 and DC-10-40F airplanes) | 34 | $5,238 | $7,958 | 45 | $358,110.
Modify wiring (Model MD-11 and -11F airplanes) | Between 124 and 192 | Between $11,912 and $17,672 | Between $21,832 and $33,032 | 160 | Between $3,493,120 and $5,285,120.
Install thrust reverser locking system (Model DC-10-40 and DC-10-40F airplanes) | 218 | Between $165,535 and $207,792 | Between $182,975 and $225,232 | 45 | Between $8,233,875 and $10,135,440.

Cost of Concurrent Actions for Model MD-11 and MD-11F Airplanes
Action | Work hours | Parts | Cost per airplane | Number of U.S.- registered airplanes | Fleet cost
Update program software, as applicable | 2 | None | $160 | Up to 160 | Up to $25,600.
Modify wing pylon harnesses, as applicable | 100 | $5,268 | $13,268 | Up to 160 | Up to $2,122,880.
Modify pylon thrust reverser harnesses and J-box, as applicable | Between 82 and 192 | Between $10,472 and $15,999 | Between $17,032 and $31,359 | Up to 160 | Up to $5,017,440.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-25-20 McDonnell Douglas: Amendment 39-15302. Docket No. FAA-2005-21470; Directorate Identifier 2003-NM-45-AD.

Effective Date

(a) This AD becomes effective January 22, 2008.

Affected ADs

(b) None.

Applicability

(c) This AD applies to airplanes, certificated in any category, as listed in Table 1 of this AD.

Table 1.—Applicability
McDonnell Douglas airplane— | As identified in—
(1) Model DC-10-10, DC-10-10F, DC-10-15, DC-10-30 and DC-10-30F (KC-10A and KDC-10) airplanes | Boeing Service Bulletin DC10-78-066, Revision 01, dated November 30, 2001.
(2) Model DC-10-40 and DC-10-40F airplanes | Boeing Service Bulletin DC10-78-067, dated October 30, 2002.
(3) Model MD-11 and MD-11F airplanes | Boeing Alert Service Bulletin MD11-78A007, Revision 4, dated February 22, 2007.

Unsafe Condition

(d) This AD was prompted by a determination that the thrust reverser systems on these McDonnell Douglas airplanes do not adequately preclude unwanted deployment of a thrust reverser. We are issuing this AD to prevent an unwanted deployment of a thrust reverser during flight, which could result in reduced controllability of the airplane.

Compliance

(e) You are responsible for having the actions required by this AD performed within the compliance times specified, unless the actions have already been done.

Wiring Modification

(f) For Model DC-10-10, DC-10-10F, DC-10-15, DC-10-30, and DC-10-30F (KC-10A and KDC-10) airplanes: Within 60 months after the effective date of this AD, modify the thrust reverser command wiring of the number 2 engine by doing all the actions specified in the Accomplishment Instructions of Boeing Service Bulletin DC10-78-066, Revision 01, dated November 30, 2001.

(g) For Model MD-11 and MD-11F airplanes: Within 60 months after the effective date of this AD, modify the thrust reverser system wiring from the flight compartment to engines 1, 2, and 3 thrust reversers by doing all the actions specified in the Accomplishment Instructions of Boeing Alert Service Bulletin MD11-78A007, Revision 4, dated February 22, 2007.

Wiring Modification/Installation of Thrust Reverser Locking System

(h) For Model DC-10-40 and DC-10-40F airplanes: Within 60 months after the effective date of this AD, modify the thrust reverser command wiring of the number 2 engine by doing all the actions specified in the Accomplishment Instructions of Boeing Service Bulletin DC10-78-067, dated October 30, 2002, and install thrust reverser locking systems by doing all the applicable actions specified in the Accomplishment Instructions of McDonnell Douglas Service Bulletin DC10-78-064, dated June 24, 2003.

Prior or Concurrent Actions

(i) For Model DC-10-10, DC-10-10F, DC-10-15, DC-10-30, and DC-10-30F (KC-10A and KDC-10) airplanes: Prior to or concurrently with the actions required by paragraph (f) of this AD, do the actions specified in Table 2 of this AD.

Table 2.—Prior or Concurrent Actions for Model DC-10-10, DC-10-10F, DC-10-15, DC-10-30, and DC-10-30F (KC-10A and KDC-10) Airplanes
Do— | Required by— | In accordance with—
Repetitive detailed visual inspections, functional checks, and torque checks of the thrust reverser systems, and applicable corrective actions | Paragraphs (c) and (i) of AD 2001-05-10, amendment 39-12147 | McDonnell Douglas Alert Service Bulletin DC10-78A057, Revision 01, dated February 18, 1999.
A modification of the indication light system for the thrust reversers | Paragraph (a) of AD 2001-17-19, amendment 39-12410 | McDonnell Douglas Service Bulletin DC10-78-060, dated December 17, 1999; or McDonnell Douglas Service Bulletin DC10-78-060, Revision 01, dated June 30, 2003.

(j) For Model MD-11 and MD-11F airplanes: Prior to or concurrently with the actions required by paragraph (g) of this AD, do the actions specified in Table 3 of this AD.

Table 3.—Prior or Concurrent Actions for Model MD-11 and MD-11F Airplanes
Do— | In accordance with—
An update of the program software of display electronic units | McDonnell Douglas Service Bulletin MD11-31-091, dated November 5, 1998.
A modification of the wing pylon harnesses | Rohr Service Bulletin MD-11 54-200, Revision 1, dated May 14, 2001.
A modification of the pylon thrust reverser harnesses and J-box | Rohr Service Bulletin MD-11 54-201, Revision 2, dated December 12, 2005.

Actions Accomplished According to Previous Issues of Service Bulletins

(k) Actions accomplished before the effective date of this AD according to Boeing Service Bulletin DC10-78-066, dated March 6, 2001; Rohr Service Bulletin MD-11 54-201, dated November 30, 1999; or Rohr Service Bulletin MD-11 54-201, Revision 1, dated November 23, 2005; are considered acceptable for compliance with the applicable corresponding actions specified in this AD.

Alternative Methods of Compliance (AMOCs)

(l)(1) The Manager, Los Angeles Aircraft Certification Office (ACO), FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(m) You must use the service bulletins listed in Table 4 of this AD to perform the actions that are required by this AD, unless the AD specifies otherwise.

Table 4.—All Material Incorporated by Reference
Service Bulletin | Revision level | Date
Boeing Alert Service Bulletin MD11-78A007 | 4 | February 22, 2007.
Boeing Service Bulletin DC10-78-066 | 01 | November 30, 2001.
Boeing Service Bulletin DC10-78-067 | Original | October 30, 2002.
McDonnell Douglas Alert Service Bulletin DC10-78A057, including Attachment A | 01 | February 18, 1999.
McDonnell Douglas Service Bulletin DC10-78-060 | Original | December 17, 1999.
McDonnell Douglas Service Bulletin DC10-78-060 | 01 | June 30, 2003.
McDonnell Douglas Service Bulletin DC10-78-064 | Original | June 24, 2003.
McDonnell Douglas Service Bulletin MD11-31-091 | Original | November 5, 1998.
Rohr Service Bulletin MD-11 54-200 | 1 | May 14, 2001.
Rohr Service Bulletin MD-11 54-201 | 2 | December 12, 2005.

(1) The Director of the Federal Register approved the incorporation by reference of the service bulletins listed in Table 5 of this AD in accordance with 5 U.S.C. 552(a) and 1 CFR part 51.

Table 5.—New Material Incorporated by Reference
Service Bulletin | Revision level | Date
Boeing Alert Service Bulletin MD11-78A007 | 4 | February 22, 2007.
Boeing Service Bulletin DC10-78-066 | 01 | November 30, 2001.
Boeing Service Bulletin DC10-78-067 | Original | October 30, 2002.
McDonnell Douglas Service Bulletin DC10-78-060 | 01 | June 30, 2003.
McDonnell Douglas Service Bulletin DC10-78-064 | Original | June 24, 2003.
McDonnell Douglas Service Bulletin MD11-31-091 | Original | November 5, 1998.
Rohr Service Bulletin MD-11 54-200 | 1 | May 14, 2001.
Rohr Service Bulletin MD-11 54-201 | 2 | December 12, 2005.

(2) On October 1, 2001 (66 FR 44950, August 27, 2001), the Director of the Federal Register approved the incorporation by reference of McDonnell Douglas Service Bulletin DC10-78-060, dated December 17, 1999.

(3) On April 25, 2001 (66 FR 15785, March 21, 2001), the Director of the Federal Register approved the incorporation by reference of McDonnell Douglas Alert Service Bulletin DC10-78A057, Revision 01, including Attachment A, dated February 18, 1999.

(4) Contact Boeing Commercial Airplanes, Long Beach Division, 3855 Lakewood Boulevard, Long Beach, California 90846, Attention: Data and Service Management, Dept. C1-L5A (D800-0024), for a copy of Boeing and McDonnell Douglas service information. Contact Rohr, Inc., 850 Lagoon Drive, Chula Vista, California 91910-2098, for a copy of Rohr service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on November 29, 2007.
Stephen P. Boyd,
Assistant Manager, Transport Airplane Directorate, Aircraft Certification Service.

[FR Doc. E7-23934 Filed 12-14-07; 8:45 am]

BILLING CODE 4910-13-P